DEPARTMENT OF LABOR

Office of the Secretary

[Secretary's Order 2-2005]

Delegation of Authority and Assignment of Responsibility for DOL Enterprise Communications Initiative

1. Purpose

To establish policy and assign responsibilities for the management of Department of Labor enterprise communications services, namely, Internet and intranet Web sites, telephone contact centers, electronic correspondence, translation services, and similar activities.

2. Authority and Relationship to Other Orders

a. Authority

This Order is issued pursuant to 29 U.S.C. 551 et seq.; 5 U.S.C. § 301; sections 5122-5127 of the Clinger-Cohen Act [40 U.S.C. 11312-17]; and the E-Government Act of 2002 (Pub. L. 107-347).

b. Relationship to Other Orders

(1) This Order does not affect the authorities and responsibilities assigned by any other Secretary's Order, unless otherwise expressly so provided in this or another Order.

(2) This Order replaces Secretary's Order 2-2003, Management of U.S. Department of Labor Web Sites.

(3) This Order amends Paragraph 4(a)(10) of Secretary's Order 2-2002, to the extent of any inconsistencies.

(4) This Order amends Secretary's Order 37-65, to assign responsibilities to the Office of Public Affairs for certain Web site functions.

3. Background

In order to better manage its dispersed public Web sites, intranets, communications centers, and translation services, the Department of Labor has established an Enterprise Communications Initiative (ECI). The prime purpose of the ECI is to make more effective use of DOL assets, eliminating wasteful duplication and reconciling inconsistencies across Department communications channels that may confuse or mislead the public whom we serve.

The ECI will set “best practice” standards and guidelines and, where feasible, establish centralized facilities—some hardware-based, some software-based, some procedural. No agency will be asked to incur a degradation of services, whether in functionality, reliability, performance, or cost. Conversely, agencies will be expected to participate in consolidated services that meet these conditions unless they can make a business case that such participation is contrary to statute or regulation, or otherwise would have a negative impact on the ability of the agency to fulfill its mission and its responsibilities to the U.S. taxpayers.

The ECI's rationalization of infrastructure will be predicated upon a careful review and recognition of the core needs of the Department and each of its associated agencies. The ECI recognizes that each individual agency has its own specific mission, responsibilities, and customer base. Consolidation efforts will be most applicable to agency functions that overlap or have a high degree of compatibility. Consolidation will not lead to a diminution of agency performance or a degradation of customer service.

The ECI will be designed to consolidate those services with clear benefit to participating agencies. The benefits will be measurable and demonstrable.

The ECI will be conducted in a spirit of collegial cooperation between the Department and its agencies. We will work together to build a better, more efficient, more effective communication infrastructure that will add value to the Department of Labor and all its agencies. We will share best practices, staff expertise, and proven solutions in order to provide the best possible service to our customers. We will establish consolidated services where they make sense, and respect the individual requirements of organizational units when inherent differences arise.

4. Scope Statements

a. Agencies will remain responsible for meeting their program needs. New agency-defined ECI information technology solutions will be subject to coordination with OPA.

b. OPA will establish ECI policies, standards, and procedures designed to provide an operational and technical framework that facilitates the agencies' ability to meet their program missions and functions while ensuring Departmental compliance with administrative and legislative requirements and mandates.

c. With the agencies, OPA will explore, promote and implement ECI common, cross-agency solutions with demonstrated Departmental economies and operational efficiencies that support program agency requirements.

d. OPA, in consultation with OCIO, will specify a common, consolidated hardware and software platform supporting Departmental Internet and intranet Web sites. OPA will consider the requirements of the agencies in the development of the common platform.

e. OPA will act as the primary technical resource available to agencies in the design, development and deployment of Web and call center solutions on a reimbursable basis. However, in the event that OPA's unable to meet agency-defined needs in a timely manner, the agencies and OPA will jointly determine other support and development alternatives including the use of contractor services, as long as DOL policies, standards, requirements are met.

5. Definitions

a. “Contact Centers” refers to the DOL National Contact Center (DOL-NCC) and all agency call centers that respond to routine customer inquiries (Tier I) from the public.

b. “Departmental Web Site Information Technology Standards” refers to the policies, processes, and procedures, defined by the Office of the Chief Information Officer (OCIO), to meet architectural, interoperability, and security requirements.

c. “Enterprise Communications Media Channels.” See “Enterprise Communications Services.”

d. ”Enterprise Communications Services” refers to Internet Web sites, intranet Web sites, contact centers, e-correspondence, and translation services.

e. “E-Correspondence” refers to activities related to managing and responding to inquiries received via e-mail from the public.

f. “Foreign Language Translation Services” refers to all activities related to managing the translation of any DOL products, regardless of format and end use.

g. “Information Technology” refers to any equipment or interconnected system or subsystem of equipment that is used in the automatic acquisition, storage, manipulation, management, movement, control, display, switching, interchange, transmission, or reception of data or information by the executive agency. It also refers to computers, ancillary equipment, software, firmware and similar procedures, services (including support services), and related resources.

h. “Internet Web Sites” refers to Departmental Web sites that are available to the general public, including, upon determination by the Deputy Secretary, “partnered sites,” or sites where DOL shares operations, management, and/or content with other government agencies or non-government entities.

i. “Intranet Web Sites” refers to Departmental Web sites that provide general access for communicating to DOL employees. Agency-specific intranet content that supports agency-specific program delivery internally are outside the scope of the ECI.

j. “Legacy Web Application” refers to existing Web applications that may be operating properly, but might need to be reengineered to function optimally or to be in compliance with the approved enterprise architecture.

k. “New Web Site” refers to a new presence on the public Web sites, a new presence among internal Web sites, or a Web site where DOL has shared responsibility. Examples include, but are not limited to, sites that represent a new program, statute, Departmental initiative, new type of information offered to the public, or new Web sites co-sponsored by the Department and another entity, public or private.

l. “Public Access” refers to the ability of the public or an audience to access Departmental information.

m. “Resources” refers to technical DOL staff, contract staff, budget, and technologies including hardware, software, licenses and maintenance contracts, and documentation associated with call centers, and/or Web activities.

n. “Tier I” refers to contact center staff who handle routine customer inquiries. Calls or e-mails requiring additional expertise not available in the call center are referred to technical or subject matter experts (Tier II).

o. “Web Application” refers to an application designed specifically to deliver and receive information via the Web (Internet and/or intranet) and its associated protocols (e.g. http, https, etc.) as the medium except as defined below (p).

p. “Web-enabled Application” refers to an application that is not developed for use as part of a Web site but uses Web-specific protocols (e.g., http, https, etc.) out of convenience. Departmental Web-enabled applications that support agency-specific program delivery internally or to the public are outside the scope of the ECI.

6. Statement of Policy

Management of Internet and intranet resources, e-correspondence, language translation services, and the Tier I contact centers will be centralized, under processes consistent with section 3 and section 7, to allow the Department to leverage economies of scale, utilize best practices, and continue to improve upon the quality of service provided to the public. The following policies are established:

a. Legacy Web applications will continue to function “as is” and may be integrated over time into the enterprise communications architecture, using a phased approach on a schedule to be determined jointly by the agency and OPA;

b. Agencies will have the option to maintain or contract for technical staff, services, or equipment or utilize services by OPA to develop or support enterprise communications services within the scope of this Order, in a manner to be determined jointly by the agency and OPA; and

c. OPA and the agencies will jointly identify and agree on common, duplicative, cost-ineffective, or functionally-ineffective enterprise communications services and functionality and resources that may be more effectively and efficiently consolidated.

7. Delegation of Authority and Assignment of Responsibilities

a. Deputy Secretary of Labor is delegated authority and assigned responsibility to:

(1) Act as an arbitrator or appoint an arbitrator when an agency and the Office of Public Affairs reach an impasse in discussions about implementation of the Enterprise Communications Initiative.

b. Assistant Secretary for Public Affairs (ASPA) is delegated authority and assigned responsibility for implementation and management of the Enterprise Communications Initiative as outlined below:

(1) Appoint a DOL Director of Enterprise Communications Services to manage Departmental enterprise communications services;

(2) Manage all consolidated enterprise communications services, including contracts for technical development and services as described in 6.b.;

(3) Adhere to DOL information technology management policies, including enterprise architecture, security, capital planning, EVMS, certification and accreditation, and authority to operate requirements;

(4) In coordination with the agencies, develop a common look and feel, navigation, and branding for all appropriate DOL enterprise communications services and ensure all standards are implemented;

(5) Establish a charter and designate a Chair for the Enterprise Communications Services Advisory Council, comprised of senior-level representatives from agencies and designated policy-level representatives from OPA, OCIO, OASP and SOL, for the purpose of working to ensure the success of the ECI, and foster collaborative Department-wide use of resources, technologies, and knowledge. This committee will disband after ECI implementation begins, at the discretion of the ASPA, to be replaced by the Enterprise Communications Management Group;

(6) Establish a charter and designate a Chair for the Enterprise Communications Policy Committee that will write and implement policies relating to enterprise communications services, and ensure compliance with all federal legislative and administrative mandates. Membership will be comprised of representatives from agencies;

(7) Establish a charter and designate a Chair for the Contact Center Advisory Committee that will work to ensure the success of the ECI, and foster collaborative Department-wide use of resources, technologies, and knowledge. Membership will be comprised of representatives from agencies;

(8) Establish a charter and designate a Chair for the Enterprise Communications Management Group that will provide guidance to the Director of Enterprise Communications Services on enterprise communications activities. The Enterprise Communications Management Group will be established after the Enterprise Communications Services Advisory Council is disbanded. Membership will be comprised of senior level representatives from agencies and designated policy-level representatives from OPA, OCIO, OASP, and SOL;

(9) Subject to other required DOL clearance processes, coordinate the timely review and approval process of all new Internet and intranet Web sites with the affected agency, SOL, OASP and, where appropriate, the Deputy Secretary;

(10) In cooperation with the agencies, develop and establish the Departmental content clearance process. OPA will have responsibility to manage and oversee the established process, including:

(a) Appropriate and timely approval or disapproval of content for policy consistency, prior to release via Departmental enterprise communications media channels; and

(b) Appropriate coordination with SOL to ensure compliance with applicable laws, regulations, and administrative mandates, including the Privacy Act, Federal Records Act, Section 508 of the Rehabilitation Act, and the E-Government Act.

(11) Receive content updates from designated agency content managers, timely review submitted information, and publish new and updated content. This will be implemented using a phased approach by developing SLAs, to be determined jointly by the agency and OPA. OPA will consult with the agencies in the evaluation and selection of software to be used for DOL-wide content management;

(12) Coordinate enterprise communications content and services with the agencies to ensure content is published in a timely manner, and in alignment with the Department's mission and Secretarial goals, and meets established SLAs;

(13) Develop appropriate formal agreements as needed with each agency to establish agency and OPA roles and responsibilities;

(14) Conduct research and development activities related to enterprise communications services in coordination with the agencies, and select promising candidates for further development;

(15) Participate in interagency and federal-wide groups, committees, and task forces related to enterprise communications services, and coordinate all DOL responses, deliverables, and activities related to such groups;

(16) Collaborate with the agencies and use best practices, usability testing, and the latest research findings to establish policies, standards, processes and procedures to ensure that DOL enterprise communications services are managed in accordance with the Privacy Act, Federal Records Act, section 508 of the Rehabilitation Act, the E-Government Act, and other applicable legislative and administrative mandates and guidance to protect the legal rights of, and minimize the legal risks to, the Department; and

(17) Develop Internet and intranet Web applications across all enterprise communications media channels according to agreed upon agency requirements, except when agency control over the development of such applications is established by law, is outside the scope of this order, or is authorized jointly by the agency and OPA upon agency request.

c. The Assistant Secretary for Policy (ASP) is delegated authority and assigned responsibility to:

(1) Conduct timely content reviews of proposed new Web sites for the purpose of approving or disapproving the proposed sites in coordination with the affected agency, OPA, SOL and, where appropriate, the Deputy Secretary; and

(2) Participate in the Enterprise Communications Services Advisory Council and the Enterprise Communications Management Group.

d. The Chief Information Officer (CIO) is delegated authority and assigned responsibility to:

(1) In consultation with OPA and SOL as appropriate, provide guidance and support, consistent with Secretary's Order 3-2003, for all information technology aspects of DOL Internet Web sites and intranet Web sites pursuant to the Clinger-Cohen Act, E-Government Act, Paperwork Reduction Act, section 508 of the Rehabilitation Act, Federal Information Security Management Act (FISMA), and other applicable statutory and administrative mandates;

(2) In conjunction with OPA, and according to policy, process approved domain name requests; and

(3) Participate in the Enterprise Communications Services Advisory Council and the Enterprise Communications Management Group.

e. The Assistant Secretary for Administration and Management (ASAM) is delegated authority and assigned responsibility to:

(1) Ensure, through the Department's budget review process, that the agencies and OPA have appropriate plans and budgetary commitment to support the continuing development, implementation, operation, and expansion of DOL enterprise communications services;

(2) Support OPA in consolidation and realignment of agency resources (as defined in Section 5, Definitions) where appropriate, in support of the ECI; and

(3) Provide operational and maintenance support to OPA and applicable agencies for the hardware and operating systems used to run Internet information services, Internet Web sites, and LaborNet, including network connectivity and backups.

f. The Solicitor of Labor (SOL) is delegated authority and assigned responsibility to:

(1) Provide legal advice and services to OPA and all other DOL agencies on all matters arising in the administration of this Order;

(2) Conduct timely content reviews of proposed new Web sites, for the purpose of approving or disapproving the proposed sites in coordination with the affected agency, OPA, OASP and, where appropriate, the Deputy Secretary; and

(3) Participate in the Enterprise Communications Services Advisory Council and the Enterprise Communications Management Group.

g. DOL Agency Heads are delegated authority and assigned responsibility for developing, implementing, improving, and expanding their respective agency enterprise communications services in accordance with this Order and DOL policy and standards. These responsibilities include the following:

(1) Designate an Agency Content Manager(s) at the production level to serve as the point of contact with OPA staff for any enterprise communications related issues;

(2) Nominate appropriate agency staff to serve as members of advisory committees. OPA will define appropriate staff levels for each committee;

(3) Define, fund, maintain, and support enterprise communications solutions designed to meet their program needs in coordination with OPA and departmental requirements;

(4) If the agency maintains responsibility for their enterprise communications services, ensure that all information published via enterprise communications services, all e-correspondence coming into the Web sites, as well as responses, and all records of business transacted in whole or in part via DOL's enterprise communications services are managed in accordance with the Federal Records Act, Privacy Act, and other applicable legislative and administrative mandates and guidance;

(5) Seek OPA's approval for all proposed new Internet and intranet Web sites, which will be evaluated in accordance with the clearance process and DOL policies and standards;

(6) Conduct quarterly certifications of all agency Web and contact center content, to ensure the accuracy, timeliness, and authority of information disseminated via enterprise communications channels;

(7) Develop all agency-specific content for enterprise communications media channels;

(8) Establish and enforce an agency content review and clearance policy and process;

(9) Assign appropriate ECI contact(s) to assist OPA with implementation of the ECI;

(10) Ensure that DOL policies, standards, and procedures are implemented, as applicable;

(11) Coordinate with OPA to develop new products to further the mission of the agency and the Department; and

(12) Designate an agency contact responsible for coordination of foreign language translation services.

8. Effective Date

This Order is effective immediately.

9. Reservation of Authority

a. The submission of reports and recommendations to the President and Congress concerning the administration of statutory or administrative provisions is reserved to the Secretary of Labor.

b. This Secretary's Order does not affect the authorities or responsibilities of the Office of Inspector General under the Inspector General Act of 1978, as amended, or under Secretary's Order 2-90 (January 31, 1990).

c. The Secretary retains all authorities delegated herein.

10. Redelegations and Transfers of Authority

a. All of the authorities delegated herein may be re-delegated with the knowledge and approval of all responsible parties.

b. The Assistant Secretary for Public Affairs may transfer authorities set forth in paragraph 6.b. to other agency heads, as appropriate.

11. Grandfather Clause

a. Existing Departmental enterprise communications services shall continue in effect until agencies are transitioned into ECI.

Dated: September 30, 2005.
Elaine L. Chao,
Secretary of Labor.

[FR Doc. 05-20328 Filed 10-7-05; 8:45 am]

BILLING CODE 4510-23-P